DEPARTMENT OF HOUSING AND URBAN DEVELOPMENT

[Docket No. FR-4903-N-74]

Notice of Submission of Proposed Information Collection To OMB; Lender Application To Participate in Multifamily Accelerated Processing (MAP)

AGENCY: Office of the Chief Information Officer.

ACTION: Notice.

SUMMARY: The proposed information collection requirement described below has been submitted to the Office of Management and Budget (OMB) for review, as required by the Paperwork Reduction Act. The Department is soliciting public comments on the subject proposal.

This request is for reinstatement of a collection of information for which approval has expired. The collection is being revised to include a Quality Control Plan.

DATES: Comments Due Date: October 18, 2004.

ADDRESSES: Interested persons are invited to submit comments regarding this proposal. Comments should refer to the proposal by name and/or OMB approval Number (2502-0541) and should be sent to: HUD Desk Officer, Office of Management and Budget, New Executive Office Building, Washington, DC 20503; fax: 202-395-6974.

FOR FURTHER INFORMATION CONTACT: Wayne Eddins, Reports Management Officer, AYO, Department of Housing and Urban Development, 451 Seventh Street, SW., Washington, DC 20410; e-mail Wayne_Eddins@HUD.gov; telephone (202) 708-2374. This is not a toll-free number. Copies of available documents submitted to OMB may be obtained from Mr. Eddins and at HUD's Web site at http://www5.hud.gov:63001/po/i/icbts/collectionsearch.cfm.

SUPPLEMENTARY INFORMATION: This Notice informs the public that the U.S. Department of Housing and Urban Development (HUD) has submitted to OMB, for emergency processing, a survey instrument to obtain information from faith based and community organizations on their likelihood and success at applying for various funding programs. This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Lender Application to Participate in Multifamily Accelerated Processing (MAP).

OMB Approval Number: 2502-0541.

Form Numbers: None.

Description of the Need for the Information and its Proposed Use: FHA-approved multifamily lenders wishing to participate in Multifamily Accelerated Processing (MAP) must submit a MAP application package establishing the additional qualifications required of a MAP Lender. A Quality Control Plan is now required in the Lender application package. Current MAP Lenders will also be required to submit a Quality Control Plan.

Frequency Of Submission: On Occasion and Annually.

Reporting Burden:

| Number of respondents | Annual responses | × | Average hours per response | = | Burden hours
Application | 25 | 1 |  | 20 |  | 500
Annual Certification | 139 | 1 |  | 0.25 |  | 35
Quality Control | 114 | (¹) |  | 10 |  | 11,400
¹ One-time.

Total Estimated Burden Hours: Average for three years: 915.

Status: Reinstatement, with change, of previously approved collection for which approval has expired.

Authority: Section 3507 of the Paperwork Reduction Act of 1995, 44 U.S.C. 35, as amended.

Dated: September 10, 2004.
Wayne Eddins,
Departmental Reports Management Officer, Office of the Chief Information Officer.

[FR Doc. E4-2196 Filed 9-15-04; 8:45 am]

BILLING CODE 4210-27-P